SMALL BUSINESS ADMINISTRATION

[Disaster Declaration # 17973; Pennsylvania Disaster Number PA-00134 Declaration of Economic Injury]

Administrative Declaration of an Economic Injury Disaster for the Commonwealth of Pennsylvania

AGENCY: U.S. Small Business Administration.

ACTION: Notice.

SUMMARY: This is a notice of an Economic Injury Disaster Loan (EIDL) declaration for the Commonwealth of Pennsylvania dated 06/28/2023.

Incident: R.M. Palmer Company Factory Explosion.

Incident Period: 03/24/2023.

DATES: Issued on 06/28/2023.

Economic Injury (EIDL) Loan Application Deadline Date: 03/28/2024.

ADDRESSES: Submit completed loan applications to: U.S. Small Business Administration, Processing and Disbursement Center, 14925 Kingsport Road, Fort Worth, TX 76155.

FOR FURTHER INFORMATION CONTACT: A. Escobar, Office of Disaster Recovery & Resilience, U.S. Small Business Administration, 409 3rd Street SW, Suite 6050, Washington, DC 20416, (202) 205-6734.

SUPPLEMENTARY INFORMATION: Notice is hereby given that as a result of the Administrator's EIDL declaration, applications for economic injury disaster loans may be filed at the address listed above or other locally announced locations.

The following areas have been determined to be adversely affected by the disaster:

Primary Counties: Berks.

Contiguous Counties:

Pennsylvania: Chester, Lancaster, Lebanon, Lehigh, Montgomery, Schuylkill.

The Interest Rates are:

| Percent
Businesses and Small Agricultural Cooperatives without Credit Available Elsewhere | 4.000
Non-Profit Organizations without Credit Available Elsewhere | 2.375

The number assigned to this disaster for economic injury is 179730.

The State which received an EIDL Declaration #17973 is Pennsylvania.

(Catalog of Federal Domestic Assistance Number 59008)

Isabella Guzman,
Administrator.

[FR Doc. 2023-14246 Filed 7-5-23; 8:45 am]

BILLING CODE 8026-09-P